OFFICE OF PERSONNEL MANAGEMENT

Excepted Service; December 2022

AGENCY: Office of Personnel Management.

ACTION: Notice.

SUMMARY: This notice identifies Schedule A, B, and C appointing authorities applicable to a single agency that were established or revoked from December 1, 2022 to December 31, 2022.

FOR FURTHER INFORMATION CONTACT: Julia Alford, Senior Executive Resources Services, Senior Executive Services and Performance Management, Employee Services, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during December 2022.

Schedule B

No Schedule B Authorities to report during December 2022.

Schedule C

The following Schedule C appointing authorities were approved during December 2022.

Agency name | Organization name | Position title | Authorization No. | Effective date
DEPARTMENT OF AGRICULTURE | Office of Communications | Deputy Director of Advance | DA230031 | 12/22/2022
| Office of the Assistant Secretary for Congressional Relations | Legislative Advisor | DA230023 | 12/09/2022
| Office of the Chief Financial Officer | Chief of Staff | DA230024 | 12/17/2022
| Office of the Secretary | Scheduler | DA230011 | 12/01/2022
|  | Confidential Assistant | DA230034 | 12/30/2022
| Office of the Under Secretary for Rural Development | Senior Counselor for Rural Energy | DA230025 | 12/09/2022
| Office of the Under Secretary for Natural Resources and Environment | Special Assistant | DA230033 | 12/30/2022
DEPARTMENT OF COMMERCE | Office of Economic Development Administration | Chief of Staff | DC230041 | 12/29/2022
| Office of International Trade Administration | Director of Public Affairs | DC230044 | 12/29/2022
| Minority Business Development Agency | Special Assistant | DC230039 | 12/29/2022
| National Institute of Standards and Technology | Communications Director | DC230040 | 12/29/2022
| Office of Business Liaison | Special Assistant | DC230024 | 12/01/2022
|  | Public Engagement Advisor | DC230043 | 12/29/2022
| Office of Policy and Strategic Planning | Special Assistant | DC230025 | 12/01/2022
| Office of Public Affairs | Press Secretary | DC230035 | 12/15/2022
| Patent and Trademark Office | Senior Advisor | DC230026 | 12/01/2022
|  | Special Advisor | DC230027 | 12/01/2022
|  | Deputy Chief Communications Officer | DC230038 | 12/29/2022
FEDERAL PERMITTING IMPROVEMENT STEERING COUNCIL | Federal Permitting Improvement Steering Council | Director of Tribal Affairs | FF230001 | 12/15/2022
CONSUMER FINANCIAL PROTECTION BUREAU | Office of the Director Consumer Financial Protection Bureau | Management and Program Analyst Associate Director, Research, Monitoring, and Regulations | FP230002 FP230001 | 12/16/2022 12/23/2022
DEPARTMENT OF DEFENSE | Office of the Assistant to the Secretary of Defense (Public Affairs) | Special Assistant | DD230033 | 12/21/2022
| Office of the Under Secretary of Defense (Personnel and Readiness) | Special Assistant (2) | DD230035 DD230036 | 12/21/2022 12/21/2022
| Office of the Assistant Secretary of Defense (Special Operations/Low Intensity Conflict) | Senior Advisor | DD230034 | 12/23/2022
DEPARTMENT OF EDUCATION | Office of the Secretary | Confidential Assistant | DB230005 | 12/13/2022
| Office for Civil Rights | Chief of Staff | DB230019 | 12/13/2022
| Office of the Under Secretary | Special Assistant | DB230020 | 12/13/2022
| Office of Communications and Outreach | Senior Advisor | DB230021 | 12/14/2022
DEPARTMENT OF ENERGY | Office of Indian Energy Policy and Programs | Special Assistant | DE230020 | 12/05/2022
| Office of the Secretary | Special Advisor to the Chief of Staff of the Secretary | DE230021 | 12/12/2022
| Office of the Assistant Secretary for Fossil Energy | Chief of Staff | DE230024 | 12/13/2022
ENVIRONMENTAL PROTECTION AGENCY | Office of the Assistant Administrator for Water | Special Advisor | EP230013 | 12/05/2022
| Office of the Administrator | Advance Specialist | EP230012 | 12/06/2022
|  | Special Assistant to the Chief of Staff | EP230015 | 12/11/2022
|  | Special Assistant to the Executive Secretariat | EP230018 | 12/29/2022
EXPORT-IMPORT BANK | Office of Communications | Speechwriter | EB230002 | 12/01/2022
|  | Press Secretary | EB230003 | 12/01/2022
GENERAL SERVICES ADMINISTRATION | Office of the Administrator | White House Liaison and Director of National Outreach | GS230006 | 12/08/2022
|  | Special Assistant (2) | GS230007 GS230013 | 12/14/2022 12/21/2022
|  | Director of Scheduling and Advance | GS230008 | 12/16/2022
DEPARTMENT OF HEALTH AND HUMAN SERVICES | Office of Administration for Children and Families | Senior Advisor, Oversight Senior Advisor | DH230036 DH230051 | 12/08/2022 12/29/2022
| Centers for Medicare and Medicaid Services | Advisor for External Affairs | DH230043 | 12/29/2022
| Office of Administration for Community Living | Special Advisor | DH230046 | 12/16/2022
| Office of Global Affairs | Special Assistant | DH230035 | 12/01/2022
| Office of Intergovernmental and External Affairs | Special Assistant | DH230037 | 12/13/2022
| Office of the Assistant Secretary for Public Affairs | Press Secretary (Human Services) Senior Advisor for Broadcast and Specialty Media | DH230032 DH230033 | 12/01/2022 12/01/2022
|  | Principal Deputy Speechwriter | DH230034 | 12/01/2022
|  | Director of Speechwriting | DH230038 | 12/08/2022
| Office of the Deputy Secretary | Special Assistant | DH230040 | 12/15/2022
| Office of the Secretary | Senior Policy Advisor | DH230041 | 12/13/2022
DEPARTMENT OF HOMELAND SECURITY | Office of Legislative Affairs | Director of Legislative Affairs, Oversight | DM230008 | 12/01/2022
| Office of United States Immigration and Customs Enforcement | Deputy Assistant Director of Public Affairs | DM230009 | 12/07/2022
| Cybersecurity and Infrastructure Security Agency | Senior Advisor for Public Affairs | DM230010 | 12/23/2022
DEPARTMENT OF HOUSING AND URBAN DEVELOPMENT | Office of the General Counsel | Senior Counsel for Oversight | DU230011 | 12/15/2022
| Office of the Administration | Advance Coordinator | DU230012 | 12/15/2022
DEPARTMENT OF JUSTICE | Office of Civil Division | Counsel (2) | DJ230036 DJ230035 | 12/23/2022 12/28/2022
| Office of Legal Policy | Senior Counsel | DJ230039 | 12/27/2022
|  | Counsel | DJ230042 | 12/27/2022
DEPARTMENT OF LABOR | Office of the Secretary | Senior Counselor to the Secretary | DL230010 | 12/29/2022
| Office of Federal Contract Compliance Programs | Senior Advisor | DL230011 | 12/29/2022
|  | Chief of Staff | DL230013 | 12/29/2022
OFFICE OF MANAGEMENT AND BUDGET | Office of E-Government and Information Technology | Confidential Assistant | BO230003 | 12/01/2022
| Staff Offices | Confidential Assistant | BO230005 | 12/13/2022
OFFICE OF PERSONNEL MANAGEMENT | Presidents Commission on White House Fellowships | Associate Director | PM230008 | 12/15/2022
OFFICE OF THE UNITED STATES TRADE REPRESENTATIVE | Office of the Ambassador | Director of Scheduling and Advance Coordinator | TN230007 | 12/08/2022
SECURITIES AND EXCHANGE COMMISSION | Office of the Chairman | Chief of Staff | SE230002 | 12/07/2022
DEPARTMENT OF STATE | Bureau of Near Eastern Affairs | Deputy Assistant Secretary | DS230018 | 12/02/2022
| Office of the Secretary | Speechwriter | DS230026 | 12/23/2022
|  | Global Health Coordinator | DS230024 | 12/29/2022
| Office of the Under Secretary for Economic Growth, Energy, and the Environment | Senior Advisor | DS230017 | 12/02/2022
|  | Deputy Special Representative | DS230028 | 12/23/2022
| Office of the Under Secretary for Political Affairs | Foreign Affairs Officer | DS230019 | 12/02/2022
DEPARTMENT OF THE TREASURY | Office of the Assistant Secretary (Legislative Affairs) | Special Advisor | DY230044 | 12/30/2022
| Office of the Assistant Secretary (Public Affairs) | Press Assistant | DY230016 | 12/09/2022
|  | Senior Spokesperson | DY230041 | 12/30/2022
| Secretary of the Treasury | Counselor | DY230029 | 12/02/2022
|  | Deputy White House Liaison | DY230037 | 12/21/2022
|  | Senior Advisor for the Inflation Reduction Act Implementation | DY230036 | 12/30/2022
|  | Policy Advisor (Inflation Reduction Act Implementation) | DY230038 | 12/30/2022
|  | Special Assistant | DY230043 | 12/30/2022
| Office of the Under Secretary for Terrorism and Financial Intelligence | Special Advisor | DY230039 | 12/30/2022
DEPARTMENT OF VETERANS AFFAIRS | Office of the Secretary and Deputy | Chief Speechwriter | DV230004 | 12/08/2022
|  | Policy Advisor | DV230011 | 12/21/2022

The following Schedule C appointing authorities were revoked during December 2022.

Agency name | Organization name | Position title | Request No. | Vacate date
DEPARTMENT OF COMMERCE | Office of the Chief of Staff | Special Assistant (2) | DC220114 DC220109 | 12/17/2022 12/12/2022
| Office of the General Counsel | Special Assistant | DC220002 | 12/17/2022
DEPARTMENT OF EDUCATION | Office of the Secretary | Deputy Director of Scheduling | DB220079 | 12/17/2022
DEPARTMENT OF ENERGY | Grid Deployment Office | Special Assistant | DE220134 | 12/04/2022
| Office of Clean Energy Demonstrations | Special Assistant | DE220063 | 12/17/2022
| Office of the Chief Financial Officer | Special Advisor | DE210173 | 12/17/2022
| Office of the Under Secretary of Energy | Special Assistant | DE220075 | 12/17/2022
DEPARTMENT OF HEALTH AND HUMAN SERVICES | Office of the Administration for Community Living | Special Assistant | DH220005 | 12/17/2022
| Office of the Assistant Secretary for Administration | Senior Advisor for Strategic Initiatives | DH220017 | 12/31/2022
| Office of the Assistant Secretary for Public Affairs | Press Secretary (Human Services) Press Assistant | DH210252 DH220006 | 12/03/2022 12/03/2022
|  | Deputy Speechwriter | DH210139 | 12/03/2022
| Office of the Deputy Secretary | Special Assistant | DH210226 | 12/17/2022
DEPARTMENT OF HOMELAND SECURITY | United States Immigration and Customs Enforcement | Assistant Director of Congressional Relations | DM210351 | 12/09/2022
DEPARTMENT OF HOUSING AND URBAN DEVELOPMENT | Government National Mortgage Association | Special Assistant | DU220043 | 12/21/2022
| Office of Public Affairs | Deputy Assistant Secretary for Intergovernmental Relations | DU210041 | 12/15/2022
DEPARTMENT OF LABOR | Office of Federal Contract Compliance Programs | Chief of Staff | DL220066 | 12/03/2022
DEPARTMENT OF STATE | Office of Policy Planning | Special Advisor | DS210280 | 12/03/2022
| Office of the Under Secretary for Management | Staff Assistant | DS220044 | 12/17/2022
EQUAL EMPLOYMENT OPPORTUNITY COMMISSION | Office of the Chair | Writer-Editor (Speeches) | EE220001 | 12/31/2022
FEDERAL PERMITTING IMPROVEMENT STEERING COUNCIL | Federal Permitting Improvement Steering Council | Associate Director for Public Engagement | FF220003 | 12/15/2022
OFFICE OF THE SECRETARY OF DEFENSE | Office of the Secretary of Defense Office of the Under Secretary of Defense (Personnel and Readiness) | Advance Officer Special Assistant | DD220155 DD220118 | 12/03/2022 12/17/2022

Authority: 5 U.S.C. 3301 and 3302; E.O. 10577, 3 CFR, 1954-1958 Comp., p. 218.

Office of Personnel Management.
Kayyonne Marston,
Federal Register Liaison.

[FR Doc. 2023-13633 Filed 6-26-23; 8:45 am]

BILLING CODE 6325-39-P